DEPARTMENT OF ENERGY

Federal Energy Regulatory Commission

Combined Notice of Filings #1

Take notice that the Commission received the following electric corporate filings:

Docket Numbers: EC20-42-000.

Applicants: Griffith Energy LLC.

Description: Application for Authorization Under Section 203 of the Federal Power Act, et al. of Griffith Energy LLC.

Filed Date: 2/28/20.

Accession Number: 20200228-5409.

Comments Due: 5 p.m. ET 3/20/20.

Take notice that the Commission received the following electric rate filings:

Docket Numbers: ER11-3050-005.

Applicants: FirstEnergy Corp.

Description: Request to Terminate Affiliate Waivers of FirstEnergy Service Company.

Filed Date: 2/28/20.

Accession Number: 20200228-5361.

Comments Due: 5 p.m. ET 3/20/20.

Docket Numbers: ER20-1016-001.

Applicants: Cove Mountain Solar, LLC.

Description: Tariff Amendment: Amendment to Filing of Shared Facilities Common Ownership Agreement to be effective 4/9/2020.

Filed Date: 3/2/20.

Accession Number: 20200302-5155.

Comments Due: 5 p.m. ET 3/23/20.

Docket Numbers: ER20-1017-001.

Applicants: Cove Mountain Solar 2, LLC.

Description: Tariff Amendment: Amendment to Filing of Shared Facilities Common Ownership Agreement to be effective 4/9/2020.

Filed Date: 3/2/20.

Accession Number: 20200302-5162.

Comments Due: 5 p.m. ET 3/23/20.

Docket Numbers: ER20-1128-000.

Applicants: Black Hills Power, Inc.

Description: Compliance filing: Order No. 864 Compliance Filing to be effective 2/27/2020.

Filed Date: 2/28/20.

Accession Number: 20200228-5309.

Comments Due: 5 p.m. ET 3/20/20.

Docket Numbers: ER20-1129-000.

Applicants: Sagebrush, a California partnership.

Description: Baseline eTariff Filing: General Co-Ownership Partnership Agreement to be effective 2/29/2020.

Filed Date: 2/28/20.

Accession Number: 20200228-5310.

Comments Due: 5 p.m. ET 3/20/20.

Docket Numbers: ER20-1130-000.

Applicants: New England Power Pool Participants Committee.

Description: § 205(d) Rate Filing: Mar 2020 Membership Filing to be effective 2/1/2020.

Filed Date: 2/28/20.

Accession Number: 20200228-5316.

Comments Due: 5 p.m. ET 3/20/20.

Docket Numbers: ER20-1131-000.

Applicants: Pacific Gas and Electric Company.

Description: § 205(d) Rate Filing: TO Appendix Update of Retail Rate Schedules to be effective 5/1/2020.

Filed Date: 2/28/20.

Accession Number: 20200228-5320.

Comments Due: 5 p.m. ET 3/20/20.

Docket Numbers: ER20-1132-000.

Applicants: PJM Interconnection, L.L.C.

Description: § 205(d) Rate Filing: Revisions to PJM CTOA Attachment A for Silver Run Electric, LLC to be effective 12/31/9998.

Filed Date: 2/28/20.

Accession Number: 20200228-5321.

Comments Due: 5 p.m. ET 3/20/20.

Docket Numbers: ER20-1133-000.

Applicants: PJM Interconnection, L.L.C.

Description: § 205(d) Rate Filing: Revisions to PJM OATT Attachment L for Silver Run Electric, LLC to be effective 12/31/9998.

Filed Date: 2/28/20.

Accession Number: 20200228-5322.

Comments Due: 5 p.m. ET 3/20/20.

Docket Numbers: ER20-1134-000.

Applicants: Southwest Power Pool, Inc.

Description: § 205(d) Rate Filing: Bylaws Revisions to Incorporate Clerical Changes and to Provide Clarity to be effective 4/30/2020.

Filed Date: 2/28/20.

Accession Number: 20200228-5323.

Comments Due: 5 p.m. ET 3/20/20.

Docket Numbers: ER20-1135-000.

Applicants: Idaho Power Company.

Description: Tariff Cancellation: Cancellation of SA 344 to be effective 4/30/2020.

Filed Date: 3/2/20.

Accession Number: 20200302-5002.

Comments Due: 5 p.m. ET 3/23/20.

Docket Numbers: ER20-1136-000.

Applicants: Idaho Power Company.

Description: Tariff Cancellation: Cancellation of SA 345 and SA 346 to be effective 6/30/2020.

Filed Date: 3/2/20.

Accession Number: 20200302-5003.

Comments Due: 5 p.m. ET 3/23/20.

Docket Numbers: ER20-1137-000.

Applicants: California Independent System Operator Corporation, Inc.

Description: § 205(d) Rate Filing: 2020-03-02 Transmission Control Agreement Amendment Adding Desert Link to be effective 4/30/2020.

Filed Date: 3/2/20.

Accession Number: 20200302-5014.

Comments Due: 5 p.m. ET 3/23/20.

Docket Numbers: ER20-1138-000.

Applicants: Midcontinent Independent System Operator Inc., Ameren Illinois Company.

Description: § 205(d) Rate Filing: 2020-03-02_SA 3028 Ameren IL—Prairie Power Project#23 Tuscola East to be effective 5/2/2020.

Filed Date: 3/2/20.

Accession Number: 20200302-5120.

Comments Due: 5 p.m. ET 3/23/20.

Docket Numbers: ER20-1139-000.

Applicants: Midcontinent Independent System Operator Inc., Ameren Illinois Company.

Description: § 205(d) Rate Filing: 2020-03-02_SA 3028 Ameren IL—Prairie Power Project#25 Bishop Tap to be effective 5/2/2020.

Filed Date: 3/2/20.

Accession Number: 20200302-5129.

Comments Due: 5 p.m. ET 3/23/20.

Docket Numbers: ER20-1140-000.

Applicants: H.A. Wagner LLC.

Description: § 205(d) Rate Filing: Reactive Service Rate Schedule—Filing to be effective 6/1/2020.

Filed Date: 3/2/20.

Accession Number: 20200302-5144.

Comments Due: 5 p.m. ET 3/23/20.

Docket Numbers: ER20-1141-000.

Applicants: Midcontinent Independent System Operator Inc., Ameren Illinois Company.

Description: § 205(d) Rate Filing: 2020-03-02_SA 3028 Ameren IL—Prairie Power Project#24 Villa Grove to be effective 5/2/2020.

Filed Date: 3/2/20.

Accession Number: 20200302-5164.

Comments Due: 5 p.m. ET 3/23/20.

Docket Numbers: ER20-1142-000.

Applicants: GridLiance Heartland LLC.

Description: § 205(d) Rate Filing: GLH OATT TSA Filing to be effective 3/1/2020.

Filed Date: 3/2/20.

Accession Number: 20200302-5171.

Comments Due: 5 p.m. ET 3/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2020.
Nathaniel J. Davis, Sr.,
Deputy Secretary.

[FR Doc. 2020-04619 Filed 3-5-20; 8:45 am]

BILLING CODE 6717-01-P